DEPARTMENT OF STATE

[Public Notice: 11952]

U.S. Department of State Advisory Committee on Private International Law: Public Meeting on the Final Report of the Experts Group on Parentage/Surrogacy Project of the Hague Conference on Private International Law (HCCH).

The Department of State's Advisory Committee on Private International Law (ACPIL) will hold a virtual meeting to discuss the Hague Experts Group Final Report on Parentage/Surrogacy Project on Wednesday February 1, 2023. The meeting will be held in WebEx. The program is scheduled to run from 1 p.m. to 4 p.m.

The meeting will discuss the Final Report of the Experts' Group regarding the feasibility of one or more private international law instruments on legal parentage. The Final Report has been made available on the HCCH website at https://assets.hcch.net/docs/6d8eeb81-ef67-4b21-be42-f7261d0cfa52.pdf. The Report will be considered by the Council on General Affairs and Policy (CGAP) in March 2023, at which CGAP is expected to decide on whether future work on the project should be pursued. This Report presents the HCCH Experts' Group on Parentage/Surrogacy analysis and main conclusions on the feasibility of the core aspects of possible options for two separate binding legal instruments on legal parentage: one on legal parentage in general, and another on legal parentage established as a result of an international surrogacy arrangement (ISA) specifically. The purpose of the public meeting is to obtain the views of concerned stakeholders on the matters presented in the Report.

Members of the public may attend this virtual session and will be permitted to participate in the discussion. Virtual attendance is limited to 100 persons, so each member of the public that wishes to attend this session must provide: Name, contact information, and affiliation to pil@state.gov, not later than January 23, 2023. When you register, please indicate whether you require captioning. The WebEx site and agenda will be forwarded to individuals who register. Requests made after that date will be considered but might not be able to be fulfilled.

Joseph N. Khawam,
Attorney-Adviser, Office of Private International Law, Office of the Legal Adviser, Department of State.

[FR Doc. 2022-28178 Filed 12-27-22; 8:45 am]

BILLING CODE 4710-08-P